DEPARTMENT OF ENERGY

Federal Energy Regulatory Commission

[Project No. 13954-001]

Mahoning Hydropower, LLC; Notice of Intent To File License Application, Filing of Pre-Application Document, and Approving Use of the Traditional Licensing Process

a. Type of Filing: Notice of Intent to File License Application and Request to Use the Traditional Licensing Process.

b. Project No.: P-13954-001.

c. Date Filed: December 7, 2011.

d. Submitted By: Mahoning Hydropower, LLC.

e. Name of Project: Berlin Lake Hydroelectric Project.

f. Location: On the Mahoning River in Mahoning County, Ohio. The project would occupy United States lands administered by the U.S. Army Corps of Engineers, Pittsburgh District.

g. Filed Pursuant to: 18 CFR 5.3 of the Commission's regulations.

h. Potential Applicant Contact: Anthony Marra, Mahoning Hydropower, LLC, 11365 Normandy Lane, Chagrin Falls, OH 44023; (440) 804-6627; email—amarra@me.com.

i. FERC Contact: Lee Emery at (202) 502-8379; or email at lee.emery@ferc.gov.

j. Mahoning Hydropower, LLC filed its request to use the Traditional Licensing Process on December 7, 2011. Mahoning Hydropower, LLC provided public notice of its request on December 9, 2011. In a letter dated February 2, 2012, the Director of the Division of Hydropower Licensing approved Mahoning Hydropower's request to use the Traditional Licensing Process.

k. With this notice, we are initiating informal consultation with: (a) the U.S. Fish and Wildlife under section 7 of the Endangered Species Act and the joint agency regulations thereunder at 50 CFR, Part 402; and (b) the Ohio State Historic Preservation Officer, as required by section 106, National Historical Preservation Act, and the implementing regulations of the Advisory Council on Historic Preservation at 36 CFR 800.2.

l. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1 (866) 208-3676, or for TTY, (202) 502-8659. A copy is also available for inspection and reproduction at the address in paragraph h.

m. Register online at http://www.ferc.gov/docs-filing/esubscription.asp to be notified via email of new filings and issuances related to this or other pending projects. For assistance, contact FERC Online Support.

Dated: February 2, 2012.
Kimberly D. Bose,
Secretary.

[FR Doc. 2012-2856 Filed 2-7-12; 8:45 am]

BILLING CODE 6717-01-P